DEPARTMENT OF THE INTERIOR

National Park Service

National Register of Historic Places; Notification of Pending Nominations and Related Actions

Nominations for the following properties being considered for listing or related actions in the National Register were received by the National Park Service before May 10, 2008. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by June 9, 2008.

J. Paul Loether,
Chief, National Register of Historic Places/National Historic Landmarks Program.

ARIZONA

Maricopa County

Hunt's Tomb, (Pyramidal Monuments in Arizona MPS), 625 N. Galvin Pkwy, Phoenix, 08000526

CALIFORNIA

Los Angeles County

Farpoint Site, Address Restricted, Malibu, 08000527

Santa Cruz County

Sand Hill Bluff Site, Address Restricted, Santa Cruz, 08000528

Sonoma County

Orange Lawn, 645 Charles Van Damme Way, Sonoma, 08000529

MASSACHUSETTS

Barnstable County

Sea Call Farm, 82 Tonset Rd, Barnstable, 08000530

Bristol County

Union Baptist Church, 109 Court St., Bristol, 08000532

Essex County

Macy-Colby, House, 257 Main St., Amesbury, 08000531

Plymouth County

WITCH (catboat), 35 Lydia Island Rd., Plymouth, 08000533

MISSOURI

Cape Girardeau County

Lilly, Edward S. and Mary Annatoile Albert, House, 129 S. Lorimier, Cape Girardeau, 08000535

Jackson County

Inter-State Building, 417 E. 13th St./1300 Locust St., Jackson, 08000534

Jasper County

Olivia Apartments, 320 Moffet, Joplin, 08000536

SOUTH CAROLINA

Beaufort County

Seacoast Packing Company, 100 Dill Dr., Beaufort, 08000537

TEXAS

Dallas County

4928 Bryan Street Apartments, (East and South Dallas MPS), 4928 Bryan Street, Dallas, 08000539

Fayette County

Faison, Nathaniel W., House, 822 South Jefferson, La Grange, 08000538

Hays County

Pettey House, (San Marcos MRA), 714 Burleson St., San Marcos, 08000541

VIRGINIA

Richmond Independent City

Virginia State Library—Oliver Hill Building, 102 Governor St., Richmond (Independent City), 08000542

[FR Doc. E8-11556 Filed 5-22-08; 8:45 am]

BILLING CODE 4310-70-P